NATIONAL COUNCIL ON DISABILITY

Sunshine Act Meetings

TIME AND DATE: The Members of the National Council on Disability (NCD) will hold a quarterly business meeting on Thursday, January 27, 2022, 12:00 p.m.-4:00 p.m., Eastern Standard Time (EST).

PLACE: This meeting will occur via Zoom videoconference. Registration is not required. Interested parties are encouraged to join the meeting in an attendee status by Zoom Desktop Client, Mobile App, or Telephone to dial-in. Updated information is available on NCD's event page at https://ncd.gov/events/2022/upcoming-council-meeting. To join the Zoom webinar, please use the following URL: https://us06web.zoom.us/j/89548385906?pwd=RlZBVlFSSngzQ0dlak1TVVJ5OHltQT09 or enter Webinar ID: 895 4838 5906 in the Zoom app. The Passcode is: 882731.

To join the Council Meeting by telephone, dial one of the preferred numbers listed. The following numbers are (for higher quality, dial a number based on your current location: (669) 900-6833; (408) 638-0968; (312) 626-6799; (346) 248-7799; (253) 215-8782; (646) 876-9923; or (301) 715-8592. You will be prompted to enter the meeting ID 895 4838 5906 and passcode 882731. International numbers are also available: https://us06web.zoom.us/u/kdMOIA3DGa.

In the event of audio disruption or failure, attendees can follow the meeting by accessing the Communication Access Realtime Translation (CART) link provided. CART is text-only translation that occurs real time during the meeting and is not an exact transcript.

MATTERS TO BE CONSIDERED: Following welcome remarks and introductions, the Chairman and Executive Committee will provide reports; followed by a summary of NCD's Health Equity Framework and a vote; an update on policy projects and themes work; a community presentation; a presentation of virtual curriculum on disability culture and inclusive storytelling; legislative and public affairs updates; a public comment session focused on home- and community-based services (HCBS) and transitions from congregate settings; an update and training for the Council Members and staff by NCD's administrative, finance, and operations team; and any old or new business before adjourning.

AGENDA: The times provided below are approximations for when each agenda item is anticipated to be discussed (all times Eastern Standard Time):

Thursday, Jan. 27, 2022

12:00-12:05 p.m.—Welcome and Call to Order

12:05-12:15 p.m.—Chairman's Report

12:15-12:30 p.m.—Executive Committee Report

12:30-12:50 p.m.—Health Equity Framework Summary and Vote

12:50-1:35 p.m.—Policy Project Updates, FY22, & Updates on Themes Work—Policy Project Updates:

○ HCBS project/congregate settings (healthcare rationing theme)

○ Disparate Treatment of Puerto Rican Residents with Disabilities Report

○ State Use of QALYs Project (QALY as barrier to healthcare theme)

○ Employee Misclassification Project

○ Voting Rights Project

○ Employment Program Inventory

○ 2022 Progress Report (Climate Change)

○ ID/D Medicaid-Dental Reimbursement Project

○ American Indian Alaska native toolkit

1:35-2:20 p.m.—State Advocacy Highlight Presentation: Health equity through disability cultural competency curricula

Speakers: Susan Havercamp, Professor of Psychiatry and Behavioral Health, Ohio State University Nisonger Center; Sandra Carpenter, Associate Director, Medical Students with Disability and Chronic Illness; MD Candidate, Class of 2022, University of Connecticut School of Medicine; Zainub Dhanani, Founder and Director, Medical Students with Disability and Chronic Illness; MD Candidate, Class of 2023, Stanford University School of Medicine

2:20-2:50 p.m.—Virtual Curriculum on Disability Culture and Inclusive Storytelling

Speakers: Doug Roland, Creator/Filmmaker; Sue Ruzenski, Ed.D., CEO, Helen Keller Services; Christopher Woodfill, Associate Executive Director, Helen Keller National Center for DeafBlind Youths and Adults (HKNC); Divya Goel.

2:50-3:00 p.m.—Legislative and Public Affairs Report Out

3:00-3:30 p.m.—Public Comment on HCBS/Transitions from Congregate Settings Via “Hand Raise” on Zoom; Review of Written Submissions

3:30-3:50 p.m.—Administration, Finance, and Operations Team Update and Training

3:50-4:00 p.m.—Old Business/New Business

4:00 p.m.—Adjourn

PUBLIC COMMENT: Your participation during the public comment period provides an opportunity for us to hear from you—individuals, businesses, providers, educators, parents and advocates. Your comments are important in bringing to the Council's attention issues and priorities of the disability community.

For the January 27 Council meeting, NCD will designate its half hour of public comment exclusively for receiving information for its upcoming project that examines the state of the nation's home- and community-based services (HCBS) prior to and during the COVID-19 pandemic that contributed to the inability of residents with ID/DD to transition to lesser-density community housing options and resulted in widespread deaths. In order to develop NCD's recommendations to policymakers, NCD invites you share your insights in response to the following questions:

1. What federal and policy state levers hold the greatest potential to transition people out of congregate care facilities?

2. What funding streams have you seen or do you think could be effective in bolstering or building up HCBS?

3. What pilots pilot programs have you observed that offer potentially positive solutions to many of the barriers encountered by people trying to acquire HCBS and what others do you think are needed?

Because of the virtual setting, there will be a hybrid option for submitting public comment. The Council is soliciting public comment by email or via video or audio over Zoom. Emailed public comment submissions will be reviewed during the meeting and delivered to members of the Council at its conclusion. You can also present public comment during the session by clicking the “Hand Raise” button in Zoom and waiting to be called on. If you plan to present over Zoom, please provide advance notice. To provide comments or notice to present public comment, please send an email to PublicComment@ncd.gov with the subject line “Public Comment” and your name, organization, state, and topic of comment included in the body of your email. Submission should be received no later than January 26 to ensure inclusion.

CONTACT PERSON FOR MORE INFORMATION: Nicholas Sabula, Public Affairs Specialist, NCD, 1331 F Street NW, Suite 850, Washington, DC 20004; 202-272-2004 (V), or nsabula@ncd.gov.

ACCOMMODATIONS: An ASL interpreter will be on-camera during the entire meeting, and CART has been arranged for this meeting and will be embedded into the Zoom platform as well as available via streamtext link. The web link to access CART (in English) is: https://www.streamtext.net/player?event=NCD. If you require additional accommodations, please notify Anthony Simpson by sending an email to asimpson.cntr@ncd.gov as soon as possible prior to the meeting.

Due to last-minute confirmations or cancellations, NCD may substitute items without advance public notice.

Dated: January 13, 2022.
Anne C. Sommers McIntosh,
Executive Director.

[FR Doc. 2022-00969 Filed 1-13-22; 4:15 pm]

BILLING CODE 8421-02-P